DEPARTMENT OF TRANSPORTATION

Surface Transportation Board

[STB Finance Docket No. 34056]

Fore River Transportation Corp.—Change in Operators Exemption—Fore River Railroad Corporation and Massachusetts Water Resources Authority

Fore River Transportation Corp. (FRT), a noncarrier, has filed a verified notice of exemption under 49 CFR 1150.31 to operate the rail line of Massachusetts Water Resources Authority (MWRA) and Fore River Railroad Corporation (FRRC) ¹ extending approximately 3.76 miles between a point in the City of Quincy, MA, and an interchange with CSX Transportation, Inc., in the Town of Braintree, MA (line).² FRT states that it will soon enter into an agreement with FRRC to provide rail freight service over the line.

¹ MWRA, a governmental body, owns the line. FRRC, MWRA's wholly owned subsidiary, has the residual common carrier obligation with respect to the line.

² The line consists of approximately 1.83 miles of branch line and approximately 1.93 miles of spur and/or side track.

The transaction is expected to be consummated on July 1, 2000.³

³ FRT further states that, upon consummation, Quincy Bay Terminal Co., the current operator of the line, will cease all operations on the line. This change in operators is exempt under 49 CFR 1150.31(a)(3).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34056, must be filed with the Surface Transportation Board, Office of the Secretary, Case Control Unit, 1925 K Street, NW., Washington, DC 20423-0001. In addition, a copy of each pleading must be served on Richard H. Streeter, Esq., Barnes & Thornburg, 1401 I Street, NW., Suite 500, Washington, DC 20005.

Board decisions and notices are available on our website at www.stb.dot.gov.

Decided: June 19, 2001.
By the Board, David M. Konschnik, Director, Office of Proceedings.
Vernon A. Williams,
Secretary.

[FR Doc. 01-15986 Filed 6-25-01; 8:45 am]

BILLING CODE 4915-00-P